DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before April 5, 2021.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety, General Approvals and Permits Branch, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC.

This notice of receipt of applications for special permit is published in accordance with part 107 of the Federal hazardous materials transportation law (49 U.S.C. 5117(b); 49 CFR 1.53(b)).

Issued in Washington, DC, on March 02, 2021.
Donald P. Burger,
Chief, General Approvals and Permits Branch.

Application No. | Applicant | Regulation(s) affected | Nature of the special permits thereof
Special Permits Data—Granted
10880-M | Austin Powder Company | 172.101(i), 173.35(b), 177.835(a), 177.848(g)(3) | To modify the special permit to authorize cargo vessel as an approved mode of transport.
20u283-M | LG Energy Solution, Ltd. | 172.101(j) | To modify the special permit to authorize the use of 4G fiberboard boxes as outer packaging.
20851-M | Call2Recycle, Inc | 172.200, 172.600, 172.700(a) | To modify the special permit to authorize the transportation of end-of-life lithium batteries up to 1,200 Wh to be shipped in PG II fiberboard boxes.
20904-M | Piston Automotive, LLC | 172.101(j), 173.185(b)(5) | To modify the special permit to authorize the use of alternative packaging which complies with 49 CFR 173.185(b)(5) and Packing Instruction 965 Section 1A.2.
20986-M | Olin Corporation | 172.302(c), 173.26, 173.314(c), 179.13(b) | To modify the special permit to clarify the GRL limit.
20996-M | Norfolk Southern Railway Company | 174.85(a) | To modify the special permit to remove the requirement for signage on distributed power units.
21097-N | United States Dept. of Geological Survey |  | To authorize the transportation in commerce of methane hydrate in dry shippers using liquefied nitrogen.
21102-N | Subaru Research & Development, Inc | 172.301(c), 177.834(h) | To authorize the discharge of Division 2.1 and 2.2 hazardous materials from an authorized DOT specification cylinder without removing the cylinder from the vehicle on which it is transported.
21104-M | Kelley Fuels, Inc | 172.302(c), 172.334(b)(3) | To modify the special permit to authorize the placarding to the lowest flashpoint when switching between straight loads of gasoline and combustible distillate fuels in U.S. DOT specification cargo tank motor vehicles.
21129-N | Alliant Techsystems Operations LLC | 173.301, 173.302, 178.56(c), 178.56(g), 178.56(i), 178.56(j), 178.56(k), 178.56(m) | To authorize the transportation in commerce of non-DOT specification pressure vessels which incorporate a class 1 component.
21144-N | Consolidated Nuclear Security LLC | 173.56(b) | To authorize the transportation in commerce of certain materials containing low quantities of explosive substances without requiring approval in accordance with 173.56(b).
21177-N | PLZ Aeroscience Corporation | 172.301(c), 173.315(a) | To authorize the one time one way transportation of pallets of flammable aerosols that are marked CONSUMER COMMODITY ORM-D instead of Limited Quantity.
21183-N | Lynden Air Cargo, LLC | 172.101(j), 172.204(c)(3), 173.27(b)(2), 173.27(b)(3), 175.30(a)(1) | To authorize the transportation in commerce of Division 1.1, 1.2, 1.3, and 1.4 explosives that are forbidden for transportation aboard aircraft or are in excess of the quantity limitations in Column 9B of the 172.101 HMT via cargo-only aircraft.
21188-N | The Administrators of The Tulane Educational Fund | 173.199(a)(1) | To authorize the transportation in commerce of non-human primates infected with a Category B material.
Special Permits Data—Denied
Special Permits Data—Withdrawn
20450-M | Porsche Cars North America, Inc. | 172.101(j) | To modify the special permit to authorize a new type of cell for the authorized battery assemblies.
21190-N | AAC Clyde Space |  | To authorize the transportation in commerce of low production lithium ion batteries by cargo only aircraft.

[FR Doc. 2021-04603 Filed 3-4-21; 8:45 am]

BILLING CODE 4910-60-P